NUCLEAR REGULATORY COMMISSION

[Docket No. 50-255]

Nuclear Management Company, LLC, Palisades Nuclear Plant; Notice of Availability of the Final Supplement 27 to the Generic Environmental Impact Statement for License Renewal of Nuclear Plants, Regarding the License Renewal of Palisades Nuclear Plant

Notice is hereby given that the U.S. Nuclear Regulatory Commission (NRC, Commission) has published a final plant-specific supplement to the “Generic Environmental Impact Statement for License Renewal of Nuclear Plants” (GEIS), NUREG-1437, regarding the renewal of operating license DPR-20 for the Palisades Nuclear Plant (Palisades) for an additional 20 years of operation. Palisades is located on the eastern shore of Lake Michigan in Covert Township on the western side of Van Buren County, Michigan, approximately 4.5 miles south of the city limits of South Haven, Michigan. Possible alternatives to the proposed action (license renewal) include no action and reasonable alternative energy sources.

As discussed in Section 9.3 of the final Supplement 27, based on: (1) The analysis and findings in the GEIS; (2) the Environmental Report submitted by Nuclear Management Company, LLC; (3) consultation with Federal, State, and local agencies; (4) the staff's own independent review; and (5) the staff's consideration of public comments, the recommendation of the staff is that the Commission determine that the adverse environmental impacts of license renewal for Palisades are not so great that preserving the option of license renewal for energy-planning decision makers would be unreasonable.

The final Supplement 27 to the GEIS is publicly available at the NRC Public Document Room (PDR), located at One White Flint North, 11555 Rockville Pike, Rockville, Maryland, or from the NRC's Agencywide Documents Access and Management System (ADAMS). The ADAMS Public Electronic Reading Room is accessible at http://adamswebsearch.nrc.gov/dologin.htm. The Accession Number for the final Supplement 27 to the GEIS is ML062710300. Persons who do not have access to ADAMS, or who encounter problems in accessing the documents located in ADAMS, should contact the NRC's PDR reference staff by telephone at 1-800-397-4209, or 301-415-4737, or by e-mail at pdr@nrc.gov. In addition, the South Haven Memorial Library, 314 Broadway Street, South Haven, Michigan, has agreed to make the final supplement 27 to the GEIS available for public inspection.

FOR FURTHER INFORMATION, CONTACT: Mr. Bo M. Pham, Environmental Branch B, Division of License Renewal, Office of Nuclear Reactor Regulation, U.S. Nuclear Regulatory Commission, Washington, DC, 20555-0001. Mr. Pham may be contacted by telephone at 1-800-368-5642, extension 8450 or via e-mail at PalisadesEIS@nrc.gov.

Dated at Rockville, Maryland, this 12th day of October, 2006.
For the Nuclear Regulatory Commission.
Bo M. Pham,
Acting Branch Chief, Environmental Branch B, Division of License Renewal, Office of Nuclear Reactor Regulation.

[FR Doc. E6-17435 Filed 10-18-06; 8:45 am]

BILLING CODE 7590-01-P